DEPARTMENT OF ENERGY

Federal Energy Regulatory Commission

Notice of Effectiveness of Exempt Wholesale Generator Status

Patua Acquisition Company, LLC | EG16-131-000
Desert Wind Farm, LLC | EG16-132-000
Innovative Solar 31, LLC | EG16-133-000
ID Solar 1, LLC | EG16-134-000
Oregon Clean Energy, LLC | EG16-135-000
Boulder Solar II, LLC | EG16-136-000
Brady Interconnection, LLC | EG16-137-000
Pumpjack Solar I, LLC | EG16-138-000
Wildwood Solar I, LLC | EG16-139-000
Astra Wind LLC | EG16-140-000
Luning Energy Holdings LLC | EG16-141-000
Luning Energy LLC | EG16-142-000
Grand View PV Solar Two LLC | EG16-143-000

Take notice that during the month of October 2016, the status of the above-captioned entities as Exempt Wholesale Generators became effective by operation of the Commission's regulations. 18 CFR 366.7(a).

Dated: November 2, 2016.
Nathaniel J. Davis, Sr.,
Deputy Secretary

[FR Doc. 2016-26990 Filed 11-8-16; 8:45 am]

BILLING CODE 6717-01-P